NUCLEAR REGULATORY COMMISSION

[NRC-2009-0474]

Biweekly Notice; Applications and Amendments to Facility Operating Licenses Involving No Significant Hazards Considerations

I. Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from October 8, 2009 to October 21, 2009. The last biweekly notice was published on October 20, 2009 (74 FR 53774).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory e-filing system may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Energy Northwest, Docket No. 50-397, Columbia Generating Station, Benton County, Washington

Date of amendment request: August 17, 2009.

Description of amendment request: The proposed amendment would (1) relocate the specific value for the fuel oil and lube oil storage volumes from Technical Specification (TS) 3.8.3, “Diesel Fuel Oil, Lube Oil, and Starting Air,” to the TS Bases; (2) relocate the specific value for day tank fuel oil volume from TS 3.8.1, “AC [alternating current] Sources—Operating,” to the TS Bases; and (3) relocate the specific standard for particulate concentration testing of diesel fuel oil from TS 5.5.9, “Diesel Fuel Oil Testing Program,” to the TS Bases.

The U.S. Nuclear Regulatory Commission (NRC) staff issued a notice of opportunity to comment in the Federal Register on February 22, 2006 (71 FR 9179), on changes proposed by Technical Specification Task Force (TSTF) traveler TSTF-374,” Diesel Fuel Oil Testing Program,” for possible amendments to revise the plant-specific TSs to relocate the standards for diesel fuel oil testing to licensee-controlled documents and add alternate criteria to the “clear and bright” acceptance test for new fuel oil, including a model safety evaluation and model no significant hazards consideration (NSHC) determination. The NRC staff subsequently issued a notice of availability of the TSTF-374 models for referencing in license amendment applications in the Federal Register on April 21, 2006 (71 FR 20735).

Basis for proposed no significant hazards consideration determination: As required by 10 CFR 50.91(a), the licensee has provided its analysis of the issue of NSHC which is presented below:

1. Does the proposed change involve a significant increase in the probability or consequences of an accident previously evaluated?

Response: No.

The proposed change to the Diesel Fuel Oil, Lube Oil, and Starting Air Specification relocates the volume of diesel fuel oil and lube oil required to support 7 day operation of the onsite diesel generators [(DGs)], and the volume equivalent to a 6 day supply, to licensee control. A similar approach is also proposed for the AC Sources—Operating Specification which relocates the specific volume of fuel oil required to be maintained in the day tank to the TS Bases. The specific volumes of fuel oil equivalent to a 7 and 6 day supply, and the one hour day tank supply, are calculated using the NRC approved methodology described in [NRC Regulatory Guide (RG)] 1.137 [Revision 1, “Fuel Oil Systems for Standby Diesel Generators”] and [American National Standards Institute (ANSI)] N195 1976, [“Fuel Oil Systems for Standby Diesel-Generators].” The specific volume of lube oil equivalent to a 7 and 6 day supply is based on the DG manufacturer's consumption values for the run time of the DG. The requirement(s) to maintain a 7 day supply of diesel fuel oil in subsystem storage, a 7 day supply of lube oil on-site, and a minimum of one hour of fuel oil in the day tank, continue to be met with this proposed change and thus remain consistent with the assumptions in the accident analyses. The actions required to be taken when the volume of fuel or lube oil is less than what is specified are not affected by this proposed change. Hence, neither the probability nor the consequences of any accident previously evaluated will be affected.

Therefore, the proposed changes do not involve a significant increase in the probability or consequences of an accident previously evaluated.

2. Does the proposed change create the possibility of a new or different kind of accident from any accident previously evaluated?

Response: No.

The proposed changes to the Diesel Fuel Oil, Lube Oil, and Starting Air, and the AC Sources—Operating specifications do not involve physical alterations of the plant (i.e., no new or different type of equipment will be installed) or changes in the methods of governing normal plant operation. The changes do not alter assumptions made in the safety analysis but ensure that the diesel generator operates as assumed in the accident analysis. The proposed changes are consistent with the safety analysis assumptions. Therefore, the proposed changes do not create the possibility of a new or different kind of accident from any accident previously evaluated.

3. Does the proposed change involve a significant reduction in the margin of safety?

Response: No.

The proposed changes to the Diesel Fuel Oil, Lube Oil, and Starting Air, and AC Sources—Operating specifications relocates the volume of diesel fuel oil and lube oil to licensee control. As the bases for the existing limits on diesel fuel oil and lube oil are not changed and the methods used to determine these limits have been previously approved, no change is made to the accident analysis assumptions and no margin of safety is reduced as part of this change. Therefore, the proposed change does not involve a significant reduction in a margin of safety.

In its application dated August 17, 2009, the licensee also affirmed the applicability of the NSHC approved by the NRC in TSTF-374, as part of the consolidated line item process, which is presented below:

1. Does the proposed change involve a significant increase in the probability or consequences of an accident previously evaluated?

Response: No.

The proposed changes relocate the specific ASTM [American Society for Testing and Materials] standard references from the Administrative Controls Section of TS to a licensee-controlled document. Requirements to perform testing in accordance with applicable ASTM standards are retained in the TS as are requirements to perform surveillances of both new and stored diesel fuel oil. Future changes to the licensee-controlled document will be evaluated pursuant to the requirements of 10 CFR 50.59, “Changes, tests and experiments,” to ensure that such changes do not result in more than a minimal increase in the probability or consequences of an accident previously evaluated. In addition, the “clear and bright” test used to establish the acceptability of new fuel oil for use prior to addition to storage tanks has been expanded to recognize more rigorous testing of water and sediment content. Relocating the specific ASTM standard references from the TS to a licensee-controlled document and allowing a water and sediment content test to be performed to establish the acceptability of new fuel oil will not affect nor degrade the ability of the emergency diesel generators (DGs) to perform their specified safety function. Fuel oil quality will continue to meet ASTM requirements.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes relocate the specific ASTM standard references from the Administrative Controls Section of TS to a licensee-controlled document. In addition, the “clear and bright” test used to establish the acceptability of new fuel oil for use prior to addition to storage tanks has been expanded to allow a water and sediment content test to be performed to establish the acceptability of new fuel oil. The changes do not involve a physical alteration of the plant (i.e., no new or different type of equipment will be installed) or a change in the methods governing normal plant operation. The requirements retained in the TS continue to require testing of the diesel fuel oil to ensure the proper functioning of the DGs.

Therefore, the changes do not create the possibility of a new or different kind of accident from any accident previously evaluated.

3. Does the proposed change involve a significant reduction in the margin of safety?

Response: No.

The proposed changes relocate the specific ASTM standard references from the Administrative Controls Section of TS to a licensee-controlled document. Instituting the proposed changes will continue to ensure the use of applicable ASTM standards to evaluate the quality of both new and stored fuel oil designated for use in the emergency DGs. Changes to the licensee-controlled document are performed in accordance with the provisions of 10 CFR 50.59. This approach provides an effective level of regulatory control and ensures that diesel fuel oil testing is conducted such that there is no significant reduction in a margin of safety.

The “clear and bright” test used to establish the acceptability of new fuel oil for use prior to addition to storage tanks has been expanded to allow a water and sediment content test to be performed to establish the acceptability of new fuel oil. The margin of safety provided by the DGs is unaffected by the proposed changes since there continue to be TS requirements to ensure fuel oil is of the appropriate quality for emergency DG use. The proposed changes provide the flexibility needed to improve fuel oil sampling and analysis methodologies while maintaining sufficient controls to preserve the current margins of safety.

[Therefore, the changes do not involve a significant reduction in a margin of safety.]

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street, NW., Washington, DC 20006-3817.

NRC Branch Chief: Michael T. Markley.

Entergy Nuclear Vermont Yankee, LLC and Entergy Nuclear Operations, Inc., Docket No. 50-271, Vermont Yankee Nuclear Power Station, Vernon, Vermont

Date of amendment request: September 16, 2009.

Description of amendment request: The proposed amendment would revise Technical Specification Section 3.7.D.2 to allow reactor operation to continue, in the event any containment isolation valve becomes inoperable, provided the affected penetration flow path is isolated by the use of at least one closed and de-activated automatic valve, closed manual valve, or blind flange.

Basis for proposed no significant hazards consideration determination: As required by 10 CFR 50.91(a), the licensee has provided its analysis of the issue of no significant hazards consideration which is presented below:

1. Does the proposed change involve a significant increase in the probability or consequences of an accident previously evaluated?

Response: No.

The change does not impact the probability of any design basis accident in that no accident initiators are impacted. The change does not impact accident mitigation. The proposed change provides equivalent requirements for conditions where there is an inoperable containment isolation valve so that accident mitigation systems function consistent with the licensing and design basis. The change ensures that the function of primary containment is maintained should there be an inoperable containment isolation valve by isolation of the penetration flow path using passive devices. Although the isolation means are not in all cases leak tested, leakage is not expected to be significant since the devices used for isolation are passive components that are in the isolated position. Therefore, the proposed change does not involve a significant increase in the probability or consequences of an accident previously evaluated.

2. Does the proposed change create the possibility of a new or different kind of accident from any accident previously evaluated?

Response: No.

The proposed change provides allowance for crediting passive isolation devices on lines that have been determined to have an inoperable containment isolation valve. The use of a passive component (i.e., another containment isolation valve in the affected line) to compensate for an inoperable isolation valve is already part of the licensing basis. The change expands the types of passive devices which may be used. Operation of existing installed equipment is unchanged. The methods governing plant operation and testing remain consistent with current safety analysis assumptions. Therefore, the proposed change does not create the possibility of a new or different kind of accident from any accident previously evaluated.

3. Does the proposed change involve a significant reduction in a margin of safety?

Response: No.

The proposed change does not change any existing design requirements and does not adversely affect existing plant safety margins or the reliability of the equipment assumed to operate in the safety analysis. The proposed change affects the types of passive devices that can be used as the containment boundary when a containment isolation valve is inoperable. The design of such devices would meet containment design requirements so that safety margins are maintained. Leakage through passive devices would be minimal and be within regulatory limits. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 400 Hamilton Avenue, White Plains, NY 10601.

NRC Branch Chief: Nancy Salgado.

Exelon Generation Company, LLC, Docket Nos. 50-237 and 50-249, Dresden Nuclear Power Station, Units 2 and 3, Grundy County, Illinois, Docket Nos. 50-254 and 50-265, Quad Cities Nuclear Power Station, Units 1 and 2, Rock Island County, Illinois

Date of application for amendment request: August 28, 2009.

Description of amendment request: The proposed amendment revises Technical Specification 3.4.5, “RCS [Reactor Coolant System] Leakage Detection Instrumentation,” to support implementation of an alternate method of verifying that leakage in the drywell is within limits.

Basis for proposed no significant hazards consideration determination: As required by 10 CFR 50.91(a), the licensee has provided its analysis of the issue of no significant hazards consideration, which is presented below:

1. Does the proposed change involve a significant increase in the probability or consequences of an accident previously evaluated?

Response: No

The proposed change does not involve physical changes to any plant structure, system, or component. As a result, no new failure modes of the RCS leakage detection systems are being introduced. Additionally, the change being proposed will have no impact on the RCS leakage detection system that would impact initiating event frequency.

The consequences of a previously analyzed accident are dependent on the initial conditions assumed for the analysis, the behavior of the fuel during the analyzed accident, the availability and successful functioning of the equipment assumed to operate in response to the analyzed event, and the setpoints at which these actions are initiated. The RCS leakage detection systems do not perform an accident mitigating function. Emergency Core Cooling System, Reactor Protection System, and primary and secondary containment isolation actuations are not affected by the proposed change. The proposed change has no impact on any setpoints or functions related to these actuations. There are no changes in the types or significant increase in the amounts of any effluents released offsite.

Therefore, the proposed change does not involve a significant increase in the probability or consequences of an accident previously evaluated.

2. Does the proposed change create the possibility of a new or different kind of accident from any accident previously evaluated?

Response: No

The proposed change allows use of the drywell equipment drain system as an alternate method to verify that RCS leakage in the drywell is within TS limits. The drywell equipment drain system will continue to be used for leakage collection and quantification. There is no alteration to the parameters within which the plant is normally operated or in the setpoints that initiate protective or mitigative actions. As a result, no new failure modes are being introduced.

Therefore, the proposed change does not create the possibility of a new or different kind of accident from any accident previously evaluated.

3. Does the proposed change involve a significant reduction in a margin of safety?

Response: No

The current TSs require a periodic measurement of RCS leakage. The proposed change maintains the existing level of safety by allowing use of the DWEDS [drywell equipment drain sump] monitoring system to verify that RCS leakage in the drywell is within TS limits. No changes are being made to any of the RCS leakage limits specified in TS 3.4.4. The impact of the change is that the amount of unidentified and identified RCS leakage within the drywell will be quantified and evaluated as a single unidentified leakage value. This alternate method is more conservative than the current method.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Nuclear, 4300 Winfield Road, Warrenville, IL 60555.

NRC Branch Chief: Stephen J. Campbell.

R.E. Ginna Nuclear Power Plant, LLC, Docket No. 50-244, R.E. Ginna Nuclear Power Plant, Wayne County, New York

Date of amendment request: September 18, 2009.

Description of amendment request: The proposed amendment would revise Technical Specification (TS) 5.5.7, “Inservice Testing Program,” to align it with the requirements of Title 10 of the Code of Federal Regulations (10 CFR), Section 50.55a(f)(4) for pumps and valves which are classified as American Society of Mechanical Engineers (ASME) Code Class 1, Class 2, and Class 3. Specifically, the TSs will be modified to incorporate TS Task Force (TSTF) 479-A, Revision 0, “Changes to Reflect Revision of 10 CFR 50.55a,” and TSTF 497-A, Revision 0, “Limit Inservice Testing Program SR [Surveillance Requirement] 3.0.2 Application to Frequencies of 2 Years or Less.”

Basis for proposed no significant hazards consideration determination: As required by 10 CFR 50.91(a), the licensee has provided its analysis of the issue of no significant hazards consideration, which is presented below:

1. Operation of the facility in accordance with the proposed amendment would not involve a significant increase in the probability or consequences of an accident previously evaluated.

The proposed change will replace, within TS 5.5.7, references to Section XI of ASME Boiler and Pressure Vessel Code with references to the ASME Code for Operation and Maintenance of Nuclear Power Plants (OM Code). In addition the proposed change adds words to TS 5.5.7.b which applies the extension allowance of Surveillance Requirement 3.0.2 to other normal and accelerated inservice testing frequencies of two years or less that were not included in the frequencies of the table listed in TS 5.5.7.a.

The proposed change is administrative, does not affect any accident initiators, does not affect the ability to successfully respond to previously evaluated accidents and does not affect radiological assumptions used in the evaluations. Thus, operation of the facility in accordance with the proposed change will not involve an increase in the probability or the consequences of an accident previously evaluated.

Therefore, the proposed change does not involve a significant increase in the probability or consequences of an accident previously evaluated.

2. Operation of the facility in accordance with the proposed amendment would not create the possibility of a new or different kind of accident from any accident previously evaluated.

The proposed change will replace, within TS 5.5.7 references to Section XI of ASME Boiler and Pressure Vessel Code with references to the ASME OM Code. In addition the proposed change also adds words to TS 5.5.7.b which applies the extension allowance of Surveillance Requirement 3.0.2 to other normal and accelerated inservice testing frequencies of two years or less that were not included in the frequencies of the table listed in TS 5.5.7.a.

The proposed change does not involve a modification to the physical configuration of the plant (i.e., no new equipment will be installed) or involve a change in the methods governing normal plant operation. The proposed change will not impose any new or different requirements or introduce a new accident initiator, accident precursor, or malfunction mechanism. Additionally, there is no change in the types or increase in the amounts of any effluent that may be released offsite and there is no increase in individual or cumulative occupational exposure.

Therefore, the proposed change does not create the possibility of a new or different kind of accident from any accident previously evaluated.

3. Operation of the facility in accordance with the proposed amendment would not involve a significant reduction in a margin of safety.

The proposed change will replace, within TS 5.5.7 references to Section XI of ASME Boiler and Pressure Vessel Code with references to the ASME OM Code. In addition the proposed change also adds words to TS 5.5.7.b which applies the extension allowance of Surveillance Requirement 3.0.2 to other normal and accelerated inservice testing frequencies of two years or less that were not included in the frequencies of the table listed in TS 5.5.7.a.

The proposed change does not involve a modification to the physical configuration of the operating units or change the methods governing normal plant operation. The proposed change incorporates revisions to the ASME Code that results in a net improvement in the measures for testing pumps and valves. The safety functions of the applicable pumps and valves will be maintained.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Carey Fleming, Sr. Counsel—Nuclear Generation, Constellation Group, LLC, 750 East Pratt Street, 17 Floor, Baltimore, MD 21202.

NRC Branch Chief: Nancy L. Salgado.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by email to pdr.resource@nrc.gov.

Arizona Public Service Company, et al., Docket Nos. STN 50-528, STN 50-529, and STN 50-530, Palo Verde Nuclear Generating Station, Unit Nos. 1, 2, and 3, Maricopa County, Arizona

Date of application for amendment: October 1, 2008, as supplemented by letters dated July 31 and September 17, 2009.

Brief description of amendment: The amendments modified Technical Specification (TS) 5.5.16, “Containment Leakage Rate Testing Program,” by adding exceptions to the provisions of U.S. Nuclear Regulatory Commission (NRC) Regulatory Guide 1.163, “Performance-Based Containment Leak-Test Program,” that would allow the next containment integrated leak rate test for each unit to be performed at a 15-year interval instead of the current 10-year interval for Units 1, 2, and 3.

Date of issuance: October 20, 2009.

Effective date: As of the date of issuance and shall be implemented within 90 days from the date of issuance.

Amendment Nos.: Unit 1—176; Unit 2—176; Unit 3—176.

Facility Operating License Nos. NPF-41, NPF-51, and NPF-74: The amendment revised the Operating Licenses and Technical Specifications.

Date of initial notice in Federal Register: November 18, 2008 (73 FR 68452). The supplemental letters dated July 31 and September 17, 2009, provided additional information that clarified the application, did not expand the scope of the application as originally noticed, and did not change the NRC staff's original proposed no significant hazards consideration determination.

The Commission's related evaluation of the amendments is contained in a Safety Evaluation dated October 20, 2009.

No significant hazards consideration comments received: No.

Arizona Public Service Company, et al., Docket Nos. STN 50-528, STN 50-529, and STN 50-530, Palo Verde Nuclear Generating Station, Unit Nos. 1, 2, and 3, Maricopa County, Arizona

Date of application for amendment: November 13, 2008.

Brief description of amendment: The amendments modified Technical Specification (TS) 3.5.5, “Refueling Water Tank (RWT),” for Palo Verde Nuclear Generating Station (PVNGS), Units 1 and 3, to increase the minimum required RWT level indications and the corresponding borated water volumes in TS Figure 3.5.5-1, “Minimum Required RWT Volume,” by 3 percent. The amendments also incorporate editorial changes to TS Figure 3.5.5-1 for PVNGS, Units 1, 2, and 3, to provide consistent formatting of the RWT volumetric values provided in the figure.

Date of issuance: October 21, 2009.

Effective date: As of the date of issuance and shall be implemented within 60 days from the date of issuance.

Amendment Nos.: Unit 1—177; Unit 2—177; Unit 3—177.

Facility Operating License Nos. NPF-41, NPF-51, and NPF-74: The amendment revised the Operating Licenses and Technical Specifications.

Date of initial notice in Federal Register: December 30, 2008 (73 FR 79930).

The Commission's related evaluation of the amendments is contained in a Safety Evaluation dated October 21, 2009.

No significant hazards consideration comments received: No.

Carolina Power and Light Company, et al., Docket No. 50-400, Shearon Harris Nuclear Power Plant, Unit 1, Wake and Chatham Counties, North Carolina

Date of application for amendment: April 30, 2008, as supplemented by letters dated December 3, 2008, and June 30, 2009.

Brief description of amendment: The amendment revises Technical Specification Section 3.7.5a to restore the ultimate heat sink main reservoir minimum level to the value allowed by the initial operating license as a result of improvements made to the emergency service water system. The change will allow continued plant operation to a main reservoir minimum level of 206 feet mean sea level (MSL) in Modes 1-4, versus the current minimum allowed level of 215 feet MSL.

Date of issuance: October 14, 2009.

Effective date: Effective as of the date of issuance and shall be implemented within 120 days.

Amendment No.: 132.

Renewed Facility Operating License No. NPF-63: The amendment revises the technical specifications and facility operating license.

Date of initial notice in Federal Register: August 12, 2008 (73 FR 46929).

The Commission's related evaluation of the amendment is contained in a safety evaluation dated October 14, 2009.

No significant hazards consideration comments received: No.

Entergy Operations, Inc., Docket No. 50-313, Arkansas Nuclear One, Unit No. 1, Pope County, Arkansas

Date of amendment request: October 22, 2007, as supplemented by letters dated April 3, August 14, and September 18, 2008, and August 31, 2009.

Brief description of amendment: The amendment revised the requirements of Technical Specification (TS) 3.4.12, “RCS [reactor coolant system] Specific Activity,” and TS 3.7.4, “Secondary Specific Activity,” as related to the use of an alternative source term (AST) associated with accident offsite and control room dose consequences. Implementation of the AST supports adoption of the control room envelope habitability controls in accordance with Nuclear Regulatory Commission (NRC)-approved TS Task Force (TSTF) Standard Technical Specification change traveler TSTF-448, Revision 3, “Control Room Habitability.”

Date of issuance: October 21, 2009.

Effective date: As of the date of issuance and shall be implemented within 180 days.

Amendment No.: 238.

Renewed Facility Operating License No. DPR-51: Amendment revised the Technical Specifications and license.

Date of initial notice in Federal Register: December 18, 2007 (72 FR 71708). The supplemental letters dated April 3, August 14, and September 18, 2008, and August 31, 2009, provided additional information that clarified the application, did not expand the scope of the application as originally noticed, and did not change the staff's original proposed no significant hazards consideration determination as published in the Federal Register.

The Commission's related evaluation of the amendment is contained in a Safety Evaluation dated October 21, 2009.

No significant hazards consideration comments received: No.

Exelon Generation Company, LLC, Docket Nos. STN 50-456 and STN 50-457, Braidwood Station (Braidwood), Units 1 and 2, Will County, Illinois, Docket Nos. STN 50-454 and STN 50-455, Byron Station (Byron), Unit Nos. 1 and 2, Ogle County, Illinois

Date of application for amendment: June 24, 2009, as supplemented by letters dated. August 14, August 31, and September 15, 2009.

Brief description of amendment: The amendments revise Technical Specification (TS) 5.5.9, “Steam Generator (SG) Program,” to exclude portions of the tube below the top of the SG tubesheet from periodic SG tube inspections and plugging or repair. In addition, the amendments revise the wording of reporting requirements in TS 5.6.9, “Steam Generator (SG) Tube Inspection Report.” For TS 5.5.9, the amendments incorporate a one-cycle alternate repair criteria in the provisions for SG tube repair for Braidwood, Unit 2, during refueling outage (RFO) 14 (fall 2009) and the subsequent operating cycle, and for Byron, Unit No. 2, during RFO 15 (spring 2010) and the subsequent operating cycle. These changes only affect Braidwood, Unit 2, and Byron, Unit No. 2; however, this action is docketed for both Braidwood and Byron units because the Braidwood TS are common to both Braidwood units, and the Byron TS are common to both Byron units.

Date of issuance: October 16, 2009.

Effective date: As of the date of issuance and shall be implemented within 30 days for Braidwood and, for Byron, prior to conducting the SG inspections required by TS 5.5.9 for the Byron, Unit No. 2, spring 2010 refueling outage (B2R15).

Amendment Nos.: Braidwood Unit 1-161; Braidwood Unit 2-161; Byron Unit No. 1-166; and Byron Unit No. 2-166.

Facility Operating License Nos. NPF-72, NPF-77, NPF-37, and NPF-66: The amendments revise the TSs and Licenses.

Date of initial notice in Federal Register: July 31, 2009 (74 FR 38234). The supplemental letters provided additional information that clarified the application, did not expand the scope of the application as originally noticed, and did not change the NRC staff's original proposed no significant hazards consideration determination.

The Commission's related evaluation of the amendments is contained in a Safety Evaluation dated October 16, 2009.

No significant hazards consideration comments received: No.

Exelon Generation Company, LLC, Docket Nos. 50-237 and 50-249, Dresden Nuclear Power Station, Units 2 and 3, Grundy County, Illinois

Date of application for amendment: October 9, 2007, as supplemented by letter dated January 30, 2009.

Brief description of amendment: The amendments modify the technical specifications to risk-informed requirements regarding selected Required Action End States as provided in Technical Specification Task Force (TSTF) change traveler TSTF-423, Revision 0, “Technical Specifications End States, NEDC-32988-A, Revision 2.”

Date of issuance: October 20, 2009.

Effective date: As of the date of issuance and shall be implemented within 120 days.

Amendment Nos.: 233/226.

Renewed Facility Operating License Nos. DPR-19 and DPR-25: The amendments revised the Technical Specifications and License.

Date of initial notice in Federal Register: December 4, 2007 (72 FR 68215). The January 30, 2009, supplement, contained clarifying information and did not change the NRC staff's initial proposed finding of no significant hazards consideration determination.

The Commission's related evaluation of the amendments is contained in a Safety Evaluation dated October 20, 2009.

No significant hazards consideration comments received: No.

Indiana Michigan Power Company (IandM), Docket Nos. 50-315 and 50-316, Donald C. Cook Nuclear Plant, Units 1 and 2, Berrien County, Michigan

Date of application for amendment: September 25, 2008.

Brief description of amendment: The amendment modifies Technical Specification Figures 4.3-1 and 4.3-2, which show allowable locations for nuclear fuel in the spent fuel pool storage racks. The figures currently show two different allowable storage patterns for four of the storage rack modules. The amendment modifies these two figures such that fuel may be located in any of these four individual modules in accordance with either figure to allow continued placement of new and intermediate burn-up fuel in the spent fuel pool as the storage racks approach capacity.

Date of issuance: October 8, 2009.

Effective date: As of the date of issuance and shall be implemented within 45 days from the date of issuance.

Amendment Nos.: Unit 1-311; Unit 2-293.

Facility Operating License Nos. DPR-58 and DPR-74: Amendment revised the Renewed Operating License and Technical Specifications.

Date of initial notice in Federal Register: December 16, 2008 (73 FR 76411).

The Commission's related evaluation of the amendment is contained in a Safety Evaluation dated October 8, 2009.

No significant hazards consideration comments received: No.

Luminant Generation Company LLC, Docket Nos. 50-445 and 50-446, Comanche Peak Steam Electric Station, Unit Nos. 1 and 2, Somervell County, Texas

Date of amendment request: June 8, 2009, as supplemented by letters dated August 20 and 27, and September 2 (two letters), 14, 17, and 28, 2009.

Brief description of amendments: The amendments revised Technical Specification (TS) 5.5.9.2, “Unit 1 Model D76 and Unit 2 Model D5 Steam Generator (SG) Program,” to exclude portions of the tubes within the tubesheet from periodic SG inspections (establish alternate repair criteria). The amendments also revised TS 5.6.9, “Unit 1 Model D76 and Unit 2 Model D5 Steam Generator Tube Inspection Report,” to remove reference to previous interim alternate repair criteria and provide specific reporting requirements for Comanche Peak Steam Electric Station (CPSES), Unit 2 during refueling outage 11 and the subsequent operating cycle for CPSES, Unit 2.

Date of issuance: October 9, 2009.

Effective date: As of the date of issuance and shall be implemented within 30 days from the date of issuance.

Amendment Nos.: Unit 1-149; Unit 2-149.

Facility Operating License Nos. NPF-87 and NPF-89: The amendments revised the Facility Operating Licenses and Technical Specifications.

Date of initial notice in Federal Register: July 23, 2009 (74 FR 36533). The supplements dated August 20 and 27, and September 2 (two letters), 14, 17, and 28, 2009, provided additional information that clarified the application, did not expand the scope of the application as originally noticed, and did not change the staff's original proposed no significant hazards consideration determination as published in the Federal Register.

The Commission's related evaluation of the amendments is contained in a Safety Evaluation dated October 9, 2009.

No significant hazards consideration comments received: No.

NextEra Energy Seabrook, LLC, Docket No. 50-443, Seabrook Station, Unit No. 1, Rockingham County, New Hampshire

Date of amendment request: May 28, 2009, as supplemented on September 16, 18, and 25, 2009.

Description of amendment request: This amendment changes the inspection scope and repair requirements of Technical Specification (TS) Section 6.7.6.k, “Steam Generator (SG) Program” and the reporting requirements of TS Section 6.8.1.7, “Steam Generator Tube Inspection Report.” The changes establish temporary alternate repair criteria for portions of the SG tubes within the tubesheet.

Date of issuance: October 13, 2009.

Effective date: As of its date of issuance and shall be implemented within 30 days.

Amendment No.: 123.

Facility Operating License No. NPF-86: The amendment revised the TS and the License.

Date of initial notice in Federal Register: July 21, 2009 (74 FR 35891). The supplemental letters dated September 16, 18 and 25, 2009, provided additional information that clarified the application, did not expand the scope of the application as originally noticed, and did not change the staff's original proposed no significant hazards consideration determination as published in the Federal Register.

The Commission's related evaluation of the amendment is contained in a Safety Evaluation dated October 13, 2009.

No significant hazards consideration comments received: No.

Omaha Public Power District, Docket No. 50-285, Fort Calhoun Station, Unit No. 1, Washington County, Nebraska

Date of amendment request: January 30, 2009, as supplemented by letters dated June 30 and August 28, 2009.

Brief description of amendment: The amendment modifies the Fort Calhoun Station (FCS), Unit No. 1, Renewed Operating License No. DPR-40, by adding operability and surveillance testing requirements to the FCS Technical Specifications (TS) for the steam generator (SG) blowdown isolation on a reactor trip. Specifically, the changes revise TS Limiting Conditions for Operation (LCO) 2.15, Instrumentation and Control Systems, Table 2-4, Instrument Operating Conditions for Isolation Functions, to include operability requirements for SG blowdown isolation on a reactor trip and to add applicable footnotes. In addition, TS 3.1, Instrumentation and Control, Table 3-2, Minimum Frequencies for Checks, Calibrations and Testing of Engineered Safety Features, Instrumentation and Controls, is revised to include the surveillance test requirements for SG blowdown isolation on a reactor trip. The amendment changes TS LCO 2.15(1), to delete the words “key operated” associated with the bypass switches.

Date of issuance: October 9, 2009.

Effective date: As of its date of issuance and shall be implemented prior to startup from the 2009 refueling outage, which is scheduled to commence on November 1, 2009.

Amendment No.: 263.

Renewed Facility Operating License No. DPR-40: The amendment revised the Technical Specifications.

Date of initial notice in Federal Register: April 7, 2009 (74 FR 15774). The supplemental letters dated June 30 and August 28, 2009, provided additional information that clarified the application, did not expand the scope of the application as originally noticed, and did not change the staff's original proposed no significant hazards consideration determination as published in the Federal Register.

The Commission's related evaluation of the amendment is contained in a safety evaluation dated October 9, 2009.

No significant hazards consideration comments received: No.

Southern California Edison Company, et al., Docket Nos. 50-361 and 50-362, San Onofre Nuclear Generating Station, Units 2 and 3, San Diego County, California

Date of application for amendments: June 10. 2009.

Brief description of amendments: The changes consist of deletion of Technical Specification 5.2.2.e for San Onofre Nuclear Generating Station, Units 2 and 3, which has been superseded by the new requirements regarding working hours for nuclear plant staff in Title 10 of the Code of Federal Regulations (10 CFR) part 26, subpart I. The changes are consistent with Technical Specification Task Force (TSTF) change traveler, TSTF-511, Revision 0, “Eliminate Working Hour Restrictions from TS 5.2.2 to Support Compliance with 10 CFR part 26.”

Date of issuance: October 20, 2009.

Effective date: Upon issuance; to be implemented within 60 days of issuance.

Amendment Nos.: Unit 2—221; Unit 3—214.

Facility Operating License Nos. NPF-10 and NPF-15: The amendments revised the Facility Operating Licenses and Technical Specifications.

Date of initial notice in Federal Register: August 11, 2009 (74 FR 40239).

The Commission's related evaluation of the amendments is contained in a Safety Evaluation dated October 20, 2009.

No significant hazards consideration comments received: No.

Tennessee Valley Authority, Docket No. 50-328, Sequoyah Nuclear Plant, Unit 2, Hamilton County, Tennessee

Date of application for amendment: May 21, 2009, as supplemented on August 14 and September 29, 2009 (TSC 09-02).

Brief description of amendment: The proposed amendment revised Technical Specification (TS) Section 6.8.4.k, “Steam Generator (SG) Program,” for Unit 2 to allow the implementation of SG tubing alternate repair criteria for axial indications in the Westinghouse Electric Company explosive tube expansion region below the top of the tubesheet and specify the W* distance for the SG cold-legs.

Date of issuance: October 19, 2009.

Effective date: As of the date of issuance and shall be implemented within 60 days of issuance.

Amendment No.: 318.

Facility Operating License No. DPR-79: Amendment revised the technical specifications.

Date of initial notice in Federal Register: July 4, 2009 (74 FR 34048). The supplements dated August 14 and September 29, 2009, provided additional information that clarified the application, did not expand the scope of the application as originally noticed, and did not change the staff's original proposed no significant hazards consideration determination.

The Commission's related evaluation of the amendment is contained in a safety evaluation dated October 19, 2009.

No significant hazards consideration comments received: No.

Wolf Creek Nuclear Operating Corporation, Docket No. 50-482, Wolf Creek Generating Station, Coffey County, Kansas

Date of amendment request: June 2, 2009, as supplemented by letters dated August 25, September 3 (two letters), and September 15, 2009.

Brief description of amendment: The amendment revised Technical Specification (TS) 5.5.9, “Steam Generator (SG) Program,” to exclude portions of the tubes within the tubesheet from periodic SG inspections (establish alternate repair criteria). The amendments also revised TS 5.6.10, “Steam Generator Tube Inspection Report,” to remove reference to previous interim alternate repair criteria and provide specific reporting requirements for Wolf Creek Generating Station (WCGS) during refueling outage 17 and the subsequent operating cycle for WCGS.

Date of issuance: October 19, 2009.

Effective date: As of the date of its issuance and shall be implemented prior to MODE 4 entry during startup from Refueling Outage 17.

Amendment No.: 186.

Renewed Facility Operating License No. NPF-42. The amendment revised the Operating License and Technical Specifications.

Date of initial notice in Federal Register: July 21, 2009 (74 FR 35892). The supplements dated August 25, September 3 (two letters), and September 15, 2009, provided additional information that clarified the application, did not expand the scope of the application as originally noticed, and did not change the staff's original proposed no significant hazards consideration determination as published in the Federal Register.

The Commission's related evaluation of the amendment is contained in a Safety Evaluation dated October 19, 2009.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated on August 28, 2007 (72 FR 49139). The E-Filing process requires participants to submit and serve all adjudicatory documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory e-filing system may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

Southern Nuclear Operating Company, Inc., Docket No. 50-364, Joseph M. Farley Nuclear Plant, Unit 2, (FNP) Houston County, Alabama

Date of amendment request: October 8, 2009.

Description of amendment request: The proposed one-time change to the Technical Specification revises Limiting Condition for Operation 3.7.8, “Service Water System (SWS),” Action A, Completion Time from 72 hours to a one-time 7-day Completion Time to allow replacement of two of the FNP Unit 2 SWS Train A seismic support ring assemblies.

Date of Issuance: October 9, 2009.

Amendment No.: 177.

Facility Operating License No. (NPF-8): Amendment revises the technical specifications.

Public comments requested as to proposed no significant hazards consideration (NSHC):

The Commission's related evaluation of the amendment, finding of emergency circumstances, state consultation, and final NSHC determination are contained in a safety evaluation dated October 9, 2009.

Attorney for licensee: M. Stanford Blanton, Esq., Balch and Bingham, Post Office Box 306, 1710 Sixth Avenue North, Birmingham, Alabama 35201.

NRC Branch Chief: John Stang (Acting).

Dated at Rockville, Maryland, this 22nd day of October 2009.
For the Nuclear Regulatory Commission.
Joseph G. Giitter,
Director, Division of Operating Reactor Licensing, Office of Nuclear Reactor Regulation.

[FR Doc. E9-26168 Filed 11-2-09; 8:45 am]

BILLING CODE 7590-01-P